DEPARTMENT OF HEALTH AND HUMAN SERVICES

Food and Drug Administration

[Docket No. FDA-2015-N-0001]

Food and Drug Administration Science Forum 2015; Public Workshop

AGENCY: Food and Drug Administration, HHS.

ACTION: Notice of public workshop.

The Food and Drug Administration (FDA) is announcing a public workshop entitled “FDA Science Forum 2015.” The purpose of the public workshop is to highlight science conducted at the FDA by showcasing how scientific research informs regulatory decision making and to provide a forum for developing collaborations within FDA and with external organizations. The focus of the forum will be the eight FDA Regulatory Science priority areas(http://www.fda.gov/ScienceResearch/SpecialTopics/RegulatoryScience/ucm267719.htm).

Date and Time: The public workshop will be held on May 27, 2015, from 8:30 a.m. to 3:45 p.m. and May 28, 2015, from 8:30 a.m. to 4 p.m.

Location: The public workshop will be held at FDA White Oak Campus, 10903 New Hampshire Ave., Building 31 Conference Center, the Great Room (Rm. 1503), Silver Spring, MD 20993-0002. Entrance for the public workshop participants (non-FDA employees) is through Building 1 where routine security check procedures will be performed. For parking and security information, please refer to http://www.fda.gov/AboutFDA/WorkingatFDA/BuildingsandFacilities/WhiteOakCampusInformation/ucm241740.htm.

Contact Person: Leslie Wheelock, Office of Scientific Professional Development, Office of the Chief Scientist, Office of the Commissioner, Food and Drug Administration, 10903 New Hampshire Ave., Bldg. 1, Rm. 4345, Silver Spring, MD, 301-796-4580, FAX: 301-847-8106, email: FDASciProDev@fda.hhs.gov.

Registration: Submit your online registration information (including name, title, firm name, address, telephone and email) by May 15, 2015 at: http://www.fda.gov/scienceresearch/aboutscienceresearchatfda/ucm429403.htm.

There is no registration fee for the public workshop. Early registration is recommended because seating is limited. There will be no onsite registration.

If you need special accommodations due to a disability, please contact Leslie Wheelock (see Contact Person) at least 7 days in advance.

Webcast: Please be advised that as soon as possible after the Forum, a webcast and report of the public workshop will be accessible at: http://www.fda.gov/scienceresearch/aboutscienceresearchatfda/ucm429403.htm.

SUPPLEMENTARY INFORMATION: Each session of the FDA Science Forum will have an expert in the area and presentations by FDA staff.

Dated: April 3, 2015.
Leslie Kux,
Associate Commissioner for Policy.

[FR Doc. 2015-08156 Filed 4-8-15; 8:45 am]

BILLING CODE 4164-01-P